DEPARTMENT OF HEALTH AND HUMAN SERVICES

Health Resources and Service Administration

Advisory Committee on Training in Primary Care Medicine and Dentistry; Notice of Meeting

In accordance with section 10(a) (2) of the Federal Advisory Committee Act (Pub. L. 92-463), notice is hereby given of the following meeting:

Name: Advisory Committee on Training in Primary Care Medicine and Dentistry (ACTPCMD).

Dates and Times: May 20, 2013 (8:30 a.m.-5:00 p.m.); May 21, 2013 (8:30 a.m.-5:00 p.m.).

Place: Health Resources and Services Administration, U.S. Department of Health and Human Services, 5600 Fishers Lane, Rockville, Maryland 20852, Room 10-65.

Status: The meeting will be open to the public.

Purpose: The Advisory Committee provides advice and recommendations on a broad range of issues relating to grant programs authorized by sections 222 and 749 of the Public Health Service Act, as amended by section 5103(d) and re-designated by section 5303 of the Patient Protection and Affordable Care Act of 2010. The Committee has invited Dr. Donald Weaver, Chief Medical Officer for the National Association of Community Health Centers, to speak on interprofessional education integration into community health centers.

At this meeting the Advisory Committee will finalize work on their 10th Report to Congress pertaining to interprofessional education of primary care providers. The Committee will then begin discussions pertaining to their next Report to Congress. The Committee's reports are submitted to the Secretary of the Department of Health and Human Services; the Committee on Health, Education, Labor and Pensions of the Senate; and the Committee on Energy and Commerce of the House of Representatives.

Agenda: The meeting on Monday, May 20, 2013, will begin with opening comments from HRSA senior officials. The ACTPCMD agenda includes an overview of the Committee's general business activities, presentations by and dialogue with expert(s), and discussions pertinent to finalizing work on the committee's 10th Report on Interprofessional Education. The ACTPCMD will begin discussions pertaining to their 11th Report and break into small working groups.

The meeting on Tuesday, May 21, 2013, will continue with the small working groups. The full ACTPCMD will then convene and review work completed by the small workgroups and discuss next steps pertaining to the 11th Report.

The agenda will be available 14 days prior to the meeting on the HRSA Web site (http://www.hrsa.gov/advisorycommittees/bhpradvisory/actpcmd/index.html). Agenda items are subject to change as priorities dictate.

SUPPLEMENTARY INFORMATION: Members of the public and interested parties may request to participate in the meeting by emailing their first name, last name, and full email address to BHPrAdvisoryCommittee@hrsa.gov or by contacting the Designated Federal Official for this committee, Mr. Shane Rogers, at 301-443-5260 or srogers@hrsa.gov.

Due to the fact this meeting will be held within a government building and public entrance to such facilities require prior planning, access will be granted upon request only and will be on a first come, first served basis. Space is limited.

FOR FURTHER INFORMATION CONTACT: Anyone requesting information regarding the ACTPCMD should contact Mr. Shane Rogers, Designated Federal Official within the Bureau of Health Professions, Health Resources and Services Administration, in one of three ways: (1) send a request to the following address: Shane Rogers, Designated Federal Official, Bureau of Health Professions, Health Resources and Services Administration, Parklawn Building, Room 9A-27, 5600 Fishers Lane, Rockville, Maryland 20857; (2) call 301-443-5260; or 3) send an email to srogers@hrsa.gov.

Dated: April 29, 2013.
Bahar Niakan,
Director, Division of Policy and Information Coordination.

[FR Doc. 2013-10538 Filed 5-2-13; 8:45 am]

BILLING CODE 4165-15-P